DEPARTMENT OF EDUCATION

Reading First Advisory Committee

AGENCY: Department of Education, Office of Elementary and Secondary Education.

ACTION: Notice of Open Meeting.

SUMMARY: This notice describes an open meeting of the Reading First Advisory Committee. Notice of the meeting is required by Section 10(a)(2) of the Federal Advisory Committee Act and is intended to notify the public of their opportunity to attend.

Date and Time: Monday, June 23, 2008 from 1 p.m. to 5 p.m. Eastern Daylight Time.

ADDRESSES: Westin Washington DC City Center at 1400 M Street, NW., Washington, DC 20005.

FOR FURTHER INFORMATION CONTACT: Deborah Spitz, Reading First Team Leader, Reading First Advisory Committee; 400 Maryland Avenue, SW., Washington, DC 20202; telephone: (202) 260-3793; fax: (202) 260-8969; e-mail: Deborah.Spitz@ed.gov; Committee Web site: www.ed.gov/programs/readingfirst/advisory.html.

SUPPLEMENTARY INFORMATION: The Reading First Advisory Committee is authorized by Sections 1203(c)(2)(a) and 1202(e)(2) of the Elementary and Secondary Education Act (ESEA) of 1965, as amended. The Committee is established within the Department of Education to evaluate Reading First applications submitted by States, to review the progress reports that States submit after the third year of the grant period, to advise on the awarding of Targeted Assistance Grants, and to advise the Secretary on other issues that the Secretary deems appropriate.

On May 1, 2008, the U.S. Department of Education's Institute of Education Sciences (IES) released the Reading First Impact Study: Interim Report. During the open meeting of the Committee on June 23, 2008, the Committee members will discuss their questions and concerns about the Interim Report. A more detailed agenda will be posted on the Committee Web site prior to the meeting.

The Final Report of the Impact Study, which will provide impact data from three years of program implementation and information on relationships between changes in instructional practice and student reading comprehension, is expected to be released in late 2008.

Individuals who will need accommodations for a disability in order to attend the meeting (e.g., interpreting services, assistance listening devices, or materials in alternative format) should notify Deborah Spitz at (202) 260-3793, no later than ten (10) days before the scheduled date of the meeting. We will attempt to meet requests for accommodations after this date but cannot guarantee their availability. The meeting site is accessible to individuals with disabilities.

Request for Written Comments: There will not be an opportunity for the public to speak during this meeting; however, the public is encouraged to submit written comments. Written comments should be submitted via e-mail by June 19, 2008 to Deborah Spitz at Deborah.Spitz@ed.gov. These comments will be shared with the members of the Committee.

Records are kept of all Committee proceedings and are available for public inspection at 400 Maryland Avenue, SW., Washington, DC 20202, from the hours of 9 a.m. to 5 p.m., Eastern Standard Time Monday through Friday.

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Amanda Farris,
Deputy Assistant Secretary, The Office of Elementary and Secondary Education.

[FR Doc. E8-12587 Filed 6-4-08; 8:45 am]

BILLING CODE 4000-01-P